DEPARTMENT OF TRANSPORTATION

Federal Highway Administration

[FHWA Docket No. FHWA-2011-0122]

Revision of Form FHWA-1273

AGENCY: Federal Highway Administration (FHWA), DOT.

ACTION: Notice; request for comments.

SUMMARY: The FHWA is requesting comments on a proposed revision of form FHWA-1273—“Required Contract Provisions Federal-Aid Construction Contracts.” This form includes certain contract provisions that are required on all Federal-aid construction projects. The revisions are necessary to provide consistency with the current policies of the FHWA and other Federal agencies.

DATES: Comments must be received on or before March 1, 2012.

ADDRESSES: Mail or hand deliver comments to the U.S. Department of Transportation, Dockets Management Facility, 1200 New Jersey Avenue SE., Washington, DC 20590, or submit electronically at www.regulations.gov or fax comments to (202) 493-2251. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Page 19477-78) or you may visit http://dms.dot.gov.

FOR FURTHER INFORMATION CONTACT: Gerald Yakowenko, Office of Program Administration, (202) 366-1562, gerald.yakowenko@dot.gov or Michael Harkins, Office of the Chief Counsel, (202) 366-4928, michael.harkins@dot.gov. Office hours for the FHWA are from 8 a.m. to 4:30 p.m., e.t., Monday through Friday, except Federal holidays.

SUPPLEMENTARY INFORMATION:

Electronic Access and Filing

You may submit or retrieve comments online through the Federal eRulemaking portal at: www.regulations.gov. Electronic submission and retrieval help and guidelines are available under the help section of the Web site. It is available 24 hours each day, 365 days each year. Please follow the instructions. An electronic copy of this document may also be downloaded from the Office of the Federal Register's home page at: http://www.archives.gov and the Government Printing Office's Web page at: http://www.access.gpo.gov/nara.

Background

As provided in 23 CFR 633.103, Form FHWA-1273 includes contract provisions and proposal notices that are required by regulations promulgated by the FHWA or other Federal agencies. The provisions include non-discrimination, prevailing wage rates, subcontracting, job-site safety and other important requirements that must be included in every Federal-aid construction project. According to 23 CFR 633.104(a), the FHWA will update the form as regulatory revisions occur. Since the form was last revised on March 10, 1994, a number of regulatory revisions have occurred. The revisions that are being proposed by FHWA to form FHWA-1273 will bring the form up to date with current regulatory requirements.

While the revisions proposed by the FHWA are not significant; several revisions are necessary to bring the provisions into conformance with the current policies of FHWA and other Federal agencies. For example, the Wage and Hour Division, Employment Standards Administration, U.S. Department of Labor, issued a final rule titled: “Protecting the Privacy of Workers: Labor Standards Provisions Applicable to Contracts Covering Federally Financed and Assisted Construction” on December 19, 2008. This rule revised the Wage and Hour Division's regulatory policy to better protect the personal privacy of laborers and mechanics employed on covered construction contracts. The rule changed the reporting requirements concerning the use of full social security numbers and home addresses on weekly payroll statements. While the rule became effective on January 18, 2009, the FHWA did not revise form FHWA-1273 at that time and Federal-aid recipients were encouraged to implement the change through supplemental contract provisions.

The proposed revision to form FHWA-1273 will incorporate the changes noted above as well as other important changes to the required contract provisions. A list of the proposed changes and a marked-up version of the changes are available at the following Web site: http://www.fhwa.dot.gov/programadmin/contracts/1273/. A marked-up version of the revised form is also available for download and public inspection under the docket number noted above at the Federal eRulemaking portal at: http://www.regulations.gov.

The FHWA anticipates issuing a second notice responding to the comments received and requiring the use of the revised form no later than 45 days after the publication date of the second notice.

Authority: 23 U.S.C. 112; 23 CFR 633

Issued on: January 12, 2012.
Victor M. Mendez,
Administrator.

[FR Doc. 2012-1992 Filed 1-30-12; 8:45 am]

BILLING CODE 4910-22-P